DEPARTMENT OF THE TREASURY

Submission for OMB Review; Comment Request

January 24, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 2, 2006 to be assured of consideration.

Financial Management Service

OMB Number: 1510-0042.

Type of Review: Extension.

Title: Claims against the U.S. for amounts due in case of a deceased creditor.

Form: FMS form SF1055.

Description: This form is required to determine who is entitled to funds of a deceased Postal Savings depositor or deceased award holder. The form properly completed with supporting documents enables this office to decide who is legally entitled to payment.

Respondents: Individuals or households.

Estimated Total Burden Hours: 180 hour.

Clearance Officer: Jiovannah Diggs (202) 874-7662, Financial Management Service, Room 144, 3700 East West Highway, Hyattsville, MD 20782.

OMB Reviewer: Alexander T. Hunt (202) 395-7316, Office of Management and Budget, Room 10235, New Executive Office Building, Washington, DC 20503.

Michael A. Robinson,
Treasury PRA Clearance Officer.

[FR Doc. E6-1173 Filed 1-30-06; 8:45 am]

BILLING CODE 4810-35-P